FEDERAL COMMUNICATIONS COMMISSION

47 CFR Part 52

[CC Docket No. 99-200; CC Docket No. 96-98; CC Docket No 96-116; FCC 02-73]

Numbering Resource Optimization

AGENCY: Federal Communications Commission.

ACTION: Notice of proposed rulemaking.

SUMMARY: In this document, the Federal Communications Commission (FCC or Commission), seeks comment on whether to extend the LNP and pooling requirements to all carriers within the largest 100 MSAs. Finally, the Commission seeks comment on whether all MSAs included in Combined Metropolitan Statistical Areas (CMSAs) on the Census Bureau's list of the largest 100 MSAs should be included on the Commission's list of the top 100 MSAs.

DATES: Comments are due May 6, 2002. Reply Comments are due May 20, 2002. Written comments by the public on the proposed information collections are due May 6, 2002. Written comments must be submitted by the Office of Management and Budget (OMB) on the proposed information collection(s) on or before June 4, 2002.

ADDRESSES: Federal Communications Commission, Secretary, 445 12th Street, SW, Room TW-B204F, Washington, DC 20554. In addition to filing comments with the Secretary, a copy of any comments on the information collections contained herein should be submitted to Judith B. Herman, Federal Communications Commission, Room 1-C804, 445 12th Street, SW., Washington, DC 20554, or via the Internet to jbherman@fcc.gov, and to Jeanette Thornton, OMB Desk Officer, Room 10236 NEOB, 725 17th Street, NW., Washington, DC 20503 or via the Internet to JThornto@omb.eop.gov.

FOR FURTHER INFORMATION CONTACT: Pam Slipakoff, (202) 418-7705 or e-mail at pslipako@fcc.gov.

SUPPLEMENTARY INFORMATION: This is a summary of the Third Further Notice of Proposed Rulemaking in CC Docket 99-200, and Second Further Notice of Proposed Rulemaking in CC Docket No. 95-116, (FNPRM), adopted on March 13, 2002 and released on March 14, 2002. The full text of this document is available for inspection and copying during normal business hours in the Commission Reference Center, 445 12th Street, SW, Washington, DC 20554. The complete text may also be obtained through the world wide web at http://www.fcc.gov/Bureaus/CommonCarrier/Orders, or may be purchased from the Commission's copy contractor, Qualex International, Portals II, 445 12th Street, SW, Room CY-B402, Washington, DC, 20554, telephone 202-863-2893, facsimile 202-863-2898, or via e-mail at qualexint@aol.com.

This FNPRM contains proposed information collection(s) subject to the Paperwork Reduction Act of 1995 (PRA). It has been submitted to the Office of Management and Budget (OMB) for review under the PRA. OMB, the general public, and other Federal agencies are invited to comment on the proposed information collections contained in this proceeding.

Paperwork Reduction Act

This FNPRM contains a proposed information collection. The Commission, as part of its continuing effort to reduce paperwork burdens, invites the general public and the Office of Management and Budget (OMB) to comment on the information collection(s) contained in this FNPRM, as required by the Paperwork Reduction Act of 1995, Public Law 104-13. Public and agency comments are due at the same time as other comments on this FNPRM; OMB notification of action is due 60 days from the date of publication of this FNPRM in the Federal Register. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology.

OMB Control Number: None.

Title: Numbering Resource Optimization—Clarification and Further Notice.

Form No.: N/A.

Type of Review: Proposed new collection.

Respondents: Business or other for-profit.

Number of Respondents: 10.

Estimated Time Per Response: 2 hours per respondent.

Total Annual Burden: 20 hours.

Total Annual Costs: $0.

Needs and Uses: Comments are being solicited on whether rural or small carriers should be able to opt out of participation in certain MSAs upon a showing of whether or not there are competing providers in the applicable geographic area. This information will be used to determine whether or not certain carriers provide LNP and participate in thousands-block number pooling.

Synopsis of the Third Further Notice of Proposed Rulemaking in CC Docket 99-200, and Second Further Notice of Proposed Rulemaking in CC Docket No. 95-116

1. In the Numbering Resource Optimization Third Report and Order, 67 FR 6431 (Feb. 12, 2002) the Commission extended LNP and thousands-block number pooling requirements to all carriers in the largest 100 MSAs, and gave non-compliant carriers six months from the effective date of the order to deploy LNP. Apparently, some carriers and state commissions differed on the current status of the LNP requirements. Specifically, they were not sure whether LNP is required for all carriers within the 100 largest MSAs, or only for those carriers that receive a request from a competing carrier. Thus, the Commission sought to clarify the issue.

2. In attempting to clarify the issue, however, the Commission reversed the decision on LNP deployment reached by the Commission in the Number Portability First Order on Reconsideration, 62 Fed. Reg 18280 (April 15, 1997), without providing an adequate opportunity for comment on this specific issue. The Commission now reverses this clarification and provides interested parties an opportunity to comment on whether carriers should be required to deploy LNP and participate in thousands-block number pooling in the 100 largest MSAs, regardless of whether they have received a specific request to provide LNP from another carrier.

3. Number Portability. Reasoning that the deployment schedule should be modified to allow carriers to focus their resources on areas where competition is the greatest, the Commission in the Number Portability First Order on Reconsideration determined that that carriers need only provide LNP in switches for which another carrier has made a specific request for the provision of LNP. Initial deployment in accordance with the schedule modified in that order has been completed. Thus, the Commission now reexamines whether the benefits of widespread LNP deployment warrant a change in policy.

4. Accordingly, the Commission seeks comment on whether the benefits of LNP to competition and numbering resource optimization warrant a reinstatement of the original LNP requirement for all local exchange carriers and covered CMRS carriers in the largest 100 MSAs. The Commission also seeks comment on whether certain small carriers that have switches either within the largest 100 MSAs or in areas adjoining the largest 100 MSAs, but provide service to no or few customers within the MSA, should be exempt from the LNP requirement because they are not likely to receive a request for LNP.

5. Thousands-Block Number Pooling. The Commission also seeks comment on whether all carriers within the largest 100 MSAs should be required to participate in thousands-block number pooling, regardless of whether they are capable of providing LNP or whether they have received a request to provide LNP in a particular switch. Initially, the Commission linked the pooling requirement to the LNP requirement because it was widely accepted that carriers without LNP capability could not participate in pooling. Recently, however, carriers have represented to the Commission that the underlying local routing number (LRN) architecture is necessary for pooling, but full LNP capability is not necessary for pooling. The Commission continues to believe that numbering optimization measures, such as thousands-block number pooling, provide the greatest benefits when participation is maximized. In addition, the Commission continues to believe that the industry and consumers are best served by national numbering resource optimization standards implemented consistently and in a competitively neutral manner across the nation. Thus, the Commission tentatively concludes that expanding the pooling requirement to all carriers without regard to whether they are required to provide number portability will promote further numbering resource optimization, and seeks comment on this tentative conclusion. The Commission also seeks comment on whether certain small carriers, or classes of carriers that utilize numbering resources, should be exempt from the pooling requirements.

6. Largest 100 MSAs. In the Numbering Resource Optimization Third Report and Order, the Commission clarified that the “largest 100 MSAs” include those MSAs identified in the LNP First Report and Order, 61 FR 38605 (July 25, 1996), as well as those areas included on any subsequent list of the largest 100 MSAs. The most recent U.S. Census list for the year 2000 includes areas referred to as combined MSAs, or CMSAs. CMSAs include and combine the populations of several MSAs, some of which would not otherwise be included as one of the largest 100 MSAs. The Commission has focused on LNP and pooling efforts in the largest MSAs because those are the areas most likely to have competitive markets that would benefit from these measures. Conversely, the Commission has not required carriers to provide LNP or to participate in pooling in less populous areas because the full benefits of these measures would not likely be realized in areas without sufficient competition. The Commission believes this policy remains intact, and question whether those areas on the largest 100 MSAs list only because they have been combined with other MSAs into CMSAs are sufficiently competitive to be subject to the LNP and pooling requirements. The Commission therefore seeks comment on whether to require carriers in such MSAs to provide LNP and participate in thousands-block number pooling. Comments should address whether requiring LNP and pooling in these additional MSAs will further our pro-competition and numbering resource optimization goals. The Commission also seeks comment on whether, in the alternative, to give state commissions authority to require LNP and pooling in these additional MSAs. Commenters should address what factors states must consider (e.g., the number of competing service providers in the MSA), whether certain criteria must be met, and whether any such authority should be subject to Commission approval on a case-by-case basis. In addition, commenters should address whether small or rural carriers should be able to opt out of participation in such MSAs upon a showing that there are no competing carriers in the applicable geographic area.

Initial Regulatory Flexibility Analysis

7. As required by the Regulatory Flexibility Act of 1980, as amended, (RFA), 5 U.S.C. 603, the Commission has prepared this present Initial Regulatory Flexibility Analysis (IRFA) of the possible significant economic impact on a substantial number of small entities by the policies and rules proposed in this FNPRM. Written public comments are requested on this IRFA. Comments must be identified as responses to the IRFA and must be filed by the deadlines for comments on the FNPRM provided in paragraph 26 of the FNPRM. The Commission will send a copy of the FNPRM, including this IRFA, to the Chief Counsel for Advocacy of the Small Business Administration. 5 U.S.C. 603(a). In addition, the FNPRM and IRFA (or summaries thereof) will be published in the Federal Register. Id.

A. Need for, and Objectives of, the Proposed Rules

8. The Commission is issuing this FNPRM to seek further comment on whether the Commission should again extend the LNP requirements to all carriers in the largest 100 MSAs, regardless of whether they receive a request to provide LNP. The Commission also seeks comment on whether all carriers in the top 100 MSAs should be required to participate in thousands-block number pooling, regardless of whether they are required to be LNP capable. Finally, the Commission seeks comment on whether all MSAs included in CMSAs on the Census Bureau's list of the largest 100 MSAs should be included on the Commission's list of the top 100 MSAs. Receiving comment on such matters will help to ensure that number portability and thousands-block number pooling are implemented effectively and efficiently.

B. Legal Basis

9. The authority for actions proposed in this FNPRM may be found in § 52.23 of the Commission's rules, 47 CFR 52.23, sections 1, 3, 4, 201-205, and 251 of the Communications Act of 1934, as amended, 47 U.S.C. 151, 153, 154, 201-205, and 251.

C. Description and Estimate of the Number of Small Entities To Which the Proposed Rules Will Apply

10. The RFA directs agencies to provide a description of, and, where feasible, an estimate of the number of small entities that may be affected by the rules adopted herein. 5 U.S.C. 604(a)(3). The RFA defines the term “small entity” as having the same meaning as the terms “small business,” “small organization,” and “small governmental jurisdiction.” 5 U.S.C. 601(6). The term “small business” has the same meaning as the term “small business concern” under the Small Business Act, unless the Commission has developed one or more definitions that are appropriate for its activities. 5 U.S.C. 601(3). Under the Small Business Act, a “small business concern” is one which: (1) Is independently owned and operated; (2) is not dominant in its field of operation; and (3) satisfies any additional criteria established by the SBA. 15 U.S.C. 632.

11. The most reliable source of information regarding the total numbers of certain common carrier and related providers nationwide appears to be data the Commission publishes annually in its Telecommunications Provider Locator report, derived from filings made in connection with the Telecommunications Relay Service (TRS). 47 CFR 64.601 et seq. According to data in the most recent report, there are 5,679 interstate service providers. These providers include, inter alia, local exchange carriers, wireline carriers and service providers, interexchange carriers, competitive access providers, operator service providers, pay telephone operators, providers of telephone service, providers of telephone exchange service, and resellers.

12. We have included small incumbent local exchange carriers (LECs), 47 U.S.C 251(h), in this present RFA analysis. As noted above, a “small business” under the RFA is one that, inter alia, meets the pertinent small business size standard (e.g., a telephone communications business having 1,500 or fewer employees), and “is not dominant in its field of operation.” 15 U.S.C. 632. The SBA's Office of Advocacy contends that, for RFA purposes, small incumbent LECs are not dominant in their field of operation because any such dominance is not “national” in scope. We have therefore included small incumbent LECs in this RFA analysis, although we emphasize that this RFA action has no effect on FCC analyses and determinations in other, non-RFA contexts.

13. Total Number of Telephone Companies Affected. The Census Bureau reports that, at the end of 1992, there were 3,497 firms engaged in providing telephone services, as defined therein, for at least one year. This number contains a variety of different categories of carriers, including LECs, interexchange carriers, competitive access providers, operator service providers, pay telephone operators, and resellers. It seems certain that some of these 3,497 telephone service firms may not qualify as small entities because they are not “independently owned and operated.” 15 U.S.C. 632(a)(1). It seems reasonable to conclude that fewer than 3,497 telephone service firms are small entity telephone service providers that may be affected by these rules.

14. Wireline Carriers and Service Providers. The SBA has developed a definition of small entities for wireline telecommunications carriers. The Census Bureau reports that there were 2,321 such telephone companies in operation for at least one year at the end of 1992. According to the SBA's definition, such a small business telephone company is one employing no more than 1,500 persons. 13 CFR 121.201. All but 26 of the 2,321 wireline companies listed by the Census Bureau were reported to have fewer than 1,000 employees. Even if all 26 of the remaining companies had more than 1,500 employees, there would still be 2,295 wireline companies that might qualify as small entities. Although it seems certain that some of these carriers are not independently owned and operated, we are unable at this time to estimate with greater precision the number of wireline carriers and service providers that would qualify as small business concerns under SBA's definition. Therefore, we estimate that fewer than 2,295 communications wireline companies are small entities that may be affected by these rules.

15. Local Exchange Carriers, Competitive Access Providers, Interexchange Carriers, Operator Service Providers, Payphone Providers, and Resellers. Neither the Commission nor the SBA has developed a specific size standard definition for small LECs, competitive access providers (CAPS), interexchange carriers (IXCs), operator service providers (OSPs), payphone providers, or resellers. The closest applicable size standard for these carrier-types under SBA rules is for wireline telecommunications carriers and telecommunications resellers. 13 CFR 121.201. The most reliable source of information that we know regarding the number of these carriers nationwide appears to be the data that we collect annually in connection with the TRS. 47 CFR 64.601 et. seq. According to our most recent data, there are 1,329 LECs, 532 CAPs, 229 IXCs, 22 OSPs, 936 payphone providers, and 710 resellers. Although it seems certain that some of these carriers are not independently owned and operated, or have more than 1,500 employees, we are unable at this time to estimate with greater precision the number of these carriers that would qualify as small business concerns under the SBA's definition. Therefore, we estimate that there are fewer than 1,329 small entity LECs or small incumbent LECs, 532 CAPs, 229 IXCs, 22 OSPs, 936 payphone providers, and 710 resellers that may be affected by these rules.

D. Description of Projected Reporting, Recordkeeping and Other Compliance Requirements

16. Future rules may require carriers within the 100 largest MSAs to be LNP-capable, regardless of whether they have received a specific request from another carrier to provide LNP. In addition, we may also require all carriers in the top 100 MSAs to participate in thousands-block number pooling, regardless of whether they are required to be LNP capable. These rules may also include carriers that were not previously included in the top 100 MSAs. These potential requirements and inclusions of new carriers may impose additional obligations on such carriers. Commenters should discuss whether such requirements would pose an unreasonable burden on any group of carriers including small carriers.

E. Steps Taken to Minimize Significant Economic Impact on Small Entities, and Significant Alternatives Considered

17. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities. 5 U.S.C. 603(c).

18. This FNPRM may impact small entities that were not previously subject to our rules because they were not previously in the top 100 MSAs or were not otherwise required to be LNP or pooling-capable. These requirements, however, are not designed to impact small entities any differently than larger entities. Rather, these requirements are designed to promote nationwide, effective and efficient LNP and number pooling. Furthermore, in the FNPRM, we explore possible exemptions for small carriers. Specifically, we seek comment on whether certain small carriers that have switches either within the largest 100 MSAs or, in areas adjoining the 100 largest MSAs, but provide service to no or few customers within the MSA, should be exempt from the LNP requirement. Thus, we seek to avoid creating an overwhelming burden for those carriers that are not likely to receive a request for LNP. We also seek comment on whether certain small carriers, or classes of carriers that utilize numbering resources, should be exempt from the pooling requirements. In addition, we request that commenters address whether small or rural carriers should be able to opt out of participation in certain areas within the largest 100 combined MSAs upon a showing that there are no competing carriers in the applicable geographic area.

F. Federal Rules That May Duplicate, Overlap, or Conflict With the Proposed Rules.

19. None.

Report to Congress

20. The Commission will send a copy of this FNPRM including this IRFA, in a report to be sent to Congress pursuant to the Congressional Review Act. In addition, the Commission will send a copy of this FNPRM, including this IRFA, to the Chief Counsel for Advocacy of the SBA. A copy of this FNPRM, and IRFA (or summaries thereof) will also be published in the Federal Register.

21. Pursuant to Sections 1, 3, 4, 201-205, 251 of the Communications Act of 1934, as amended, 47 U.S.C. 151, 153, 154, 201-205, and 251, this Third Further Notice of Proposed Rulemaking in CC Docket 99-200, and Second Further Notice of Proposed Rulemaking in CC Docket 95-116 is hereby adopted.

22. The Commission's Consumer Information Bureau, Reference Information Center, shall send a copy of this Third Further Notice of Proposed Rulemaking in CC Docket 99-200, and Second Further Notice of Proposed Rulemaking in CC Docket 95-116, including the Initial Regulatory Flexibility Analysis, to the Chief Counsel for Advocacy of the Small Business Administration.

List of Subjects in 47 CFR Part 52

Communications common carriers, Telecommunications, Telephone.

Federal Communications Commission.
William F. Caton,
Acting Secretary.

[FR Doc. 02-8250 Filed 4-4-02; 8:45 am]

BILLING CODE 6712-01-P